DEPARTMENT OF THE INTERIOR

Bureau of Land Management

[LLMT929000/L14400000.BJ0000; 17X1109AF; MO#4500100894]

Notice of Filing of Plats of Survey; Montana

AGENCY: Bureau of Land Management, Interior.

ACTION: Notice of filing of plats of survey.

SUMMARY: The Bureau of Land Management (BLM) will file the plat of survey of the lands described below in the BLM Montana State Office, Billings, Montana, on November 28, 2016.

DATES: A notice of protest of the survey must be filed before November 28, 2016 to be considered. A statement of reasons for a protest may be filed with the notice of protest and must filed within thirty days after the notice of protest is filed.

ADDRESSES: Protests of the survey should be sent to the Branch of Cadastral Survey, Bureau of Land Management, 5001 Southgate Drive, Billings, Montana 59101-4669.

FOR FURTHER INFORMATION CONTACT: Blaise Lodermeier, Cadastral Surveyor, Branch of Cadastral Survey, Bureau of Land Management, 5001 Southgate Drive, Billings, Montana 59101-4669, telephone (406) 896-5128 or (406) 896-5003, bloderme@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This survey was executed at the request of the Chief, Branch of Realty, Lands and Renewable Energy, Bureau of Land Management, Billings, Montana, and was necessary to create Tracts of land to be transferred to the State of Montana through the indemnity selection process.

The lands we surveyed are:

Principal Meridian, Montana

Tps. 7 and 8 N., R. 47 E.

The plat, in two sheets, representing the dependent resurvey of Tract O, Tract Z, and a portion of Tract N (Tps. 7 and 8 N., R. 47 E.), and the subdivision of Tract O and Tract Z into Tract CC, Tract DD, Tract EE, and Tract FF, Township 7 North, Range 47 East, Principal Meridian, Montana, was accepted March 17, 2016.

We will place a copy of the plat, in two sheets, in the open files. They will be available to the public as a matter of information. If the BLM receives a protest against this survey, as shown on this plat, in two sheets, prior to the date of the official filing, we will stay the filing pending our consideration of the protest. We will not officially file this plat, in two sheets, until the day after we have accepted or dismissed all protests and they have become final, including decisions or appeals. Before including your address, phone number, email address, or other personally identifying information in your comment, you should be aware that your entire comment—including your personally identifying information—may be made publicly available at any time. While you can ask us in your comment to withhold your personally identifying information from public review, we cannot guarantee that we will be able to do so.

Authority: 43 U.S.C. Chap. 3.

Joshua F. Alexander,
Chief, Branch of Cadastral Survey, Division of Energy, Minerals, and Realty.

[FR Doc. 2016-26102 Filed 10-27-16; 8:45 am]

BILLING CODE 4310-DN-P